DEPARTMENT OF HOMELAND SECURITY

[DHS-2012-0022]

Technical Resource for Incident Prevention (TRIPwire) User Registration; Correction

AGENCY: National Protection and Programs Directorate, DHS.

ACTION: 60-Day Notice and Request for Comments; Correction.

SUMMARY: The Department of Homeland Security published a document in the Federal Register of September 4, 2015, concerning requests for comments on the Technical Resource for Incident Prevention (TRIPwire) User Registration. The document contained an incorrect docket number, and an incorrect email address for written comments.

FOR FURTHER INFORMATION CONTACT: Dennis Malloy, 703-235-9388.

Correction

In the Federal Register of September 4, 2015, 80 FR 53554, beginning in the second column, correct the ADDRESSES caption to read:

ADDRESSES: Written comments and questions about this Information Collection Request should be forwarded to Department of Homeland Security (Attn: NPPD/PSCD/OBP) 245 Murray Lane SW., Mail Stop 0612, Arlington, VA 20598-0612. Emailed requests should go to Dennis.Malloy@hq.dhs.gov. Written comments should reach the contact person listed no later than November 3, 2015. Comments must be identified by “DHS-2012-0022”and may be submitted by one of the following methods:

• Federal eRulemaking Portal: http://www.regulations.gov.

• Email: Include the docket number in the subject line of the message.

Instructions: All submissions received must include the words “Department of Homeland Security” and the docket number for this action. Comments received will be posted without alteration at http://www.regulations.gov, including any personal information provided.

OMB is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; or

4. Minimize the burden of the collection of information on those who are to respond, including through the use of appropriate automated, electronic, mechanical, or other technological collection techniques or other forms of information technology, e.g., permitting electronic submissions of responses.

Dated: September 16, 2015.
Scott Libby,
Deputy Chief Information Officer.

[FR Doc. 2015-24317 Filed 9-25-15; 8:45 am]

BILLING CODE 9110-9P-P